DEPARTMENT OF THE TREASURY

Internal Revenue Service

26 CFR Part 1

[TD 9347]

RIN 1545-AY22

Corporate Estimated Tax; Correction

AGENCY: Internal Revenue Service (IRS), Treasury.

ACTION: Correction to final regulations.

SUMMARY: This document contains a correction to final regulations that were published in the Federal Register on Tuesday, August 7, 2007 (72 FR 44338) providing guidance to corporations with respect to estimated tax requirements.

DATES: This correction is effective September 20, 2007.

FOR FURTHER INFORMATION CONTACT: Timothy Sheppard at (202) 622-4910 (not a toll-free number).

SUPPLEMENTARY INFORMATION:

Background

The final regulations (TD 9347) that is the subject of this correction are under section 6655 of the Internal Revenue Code.

Need for Correction

As published, these regulations (TD 9347) contains an error that may prove to be misleading and is in need of clarification.

Correction of Publication

Accordingly, the final regulations (TD 9347), that was the subject of FR Doc. E7-14946, is corrected as follows:

On page 44347, column 1, in the preamble, under the paragraph heading “Effect on other Documents”, paragraph 5, line 7, the language, “rational underlying the conclusion in” is corrected to read “rationale underlying the conclusion in”.

LaNita Van Dyke,
Branch Chief, Publications and Regulations Branch, Legal Processing Division, Office of Associate Chief Counsel (Procedure and Administration).

[FR Doc. E7-18506 Filed 9-19-07; 8:45 am]

BILLING CODE 4830-01-P